DEPARTMENT OF ENERGY

Federal Energy Regulatory Commission

Combined Notice of Filings #1

Take notice that the Commission received the following exempt wholesale generator filings:

Docket Numbers: EG11-97-000.

Applicants: Post Rock Wind Power Project, LLC.

Description: Notice of Self-Certification of Exempt Wholesale Generator Status of Post Rock Wind Power Project, LLC.

Filed Date: 06/28/2011.

Accession Number: 20110628-5147.

Comment Date: 5 p.m. Eastern Time on Tuesday, July 19, 2011.

Take notice that the Commission received the following electric rate filings:

Docket Numbers: ER10-1478-002.

Applicants: Pennsylvania Electric Company.

Description: Pennsylvania Electric Company submits tariff filing per 35: Revised Market-Based Rate Power Sales Tariff to be effective 6/29/2011.

Filed Date: 06/28/2011.

Accession Number: 20110628-5044.

Comment Date: 5 p.m. Eastern Time on Tuesday, July 19, 2011.

Docket Numbers: ER11-2040-002.

Applicants: Schuylkill Energy Resources, Inc.

Description: Supplement to Refund Report of Schuylkill Energy Resources, Inc.

Filed Date: 06/10/2011.

Accession Number: 20110610-5138.

Comment Date: 5 p.m. Eastern Time on Wednesday, July 20, 2011.

Docket Numbers: ER10-2585-001; ER10-2618-001; ER10-2619-001; ER10-2616-001; ER10-2647-001; ER10-2591-001; ER10-2617-001; ER10-2613-001.

Applicants: Ontelaunee Power Operating Company, LLC, Dynegy Power Marketing, Inc., Casco Bay Energy Company, LLC, Dynegy Marketing and Trade, LLC, Dynegy Danskammer, LLC, Dynegy Kendall Energy, LLC, Dynegy Roseton, LLC, Sithe/Independence Power Partners, LP.

Description: Updated Market Power Analysis of Casco Bay Energy Company, LLC, et al.

Filed Date: 06/28/2011.

Accession Number: 20110628-5189.

Comment Date: 5 p.m. Eastern Time on Monday, August 29, 2011.

Docket Numbers: ER10-2881-001; ER10-2882-001; ER10-2883-001; ER10-2884-001; ER10-2885-001; ER10-2641-001; ER10-2663-001; ER10-2886-001.

Applicants: Alabama Power Company, Southern Company Services, Inc., Georgia Power Company, Mississippi Power Company, Gulf Power Company, Oleander Power Project, L.P., Southern Company—Florida LLC, Southern Turner Cimarron I, LLC, Southern Power Company.

Description: Notification of Non-Material Change in Status of Southern Companies.

Filed Date: 06/28/2011.

Accession Number: 20110628-5177.

Comment Date: 5 p.m. Eastern Time on Tuesday, July 19, 2011.

Docket Numbers: ER10-3260-002.

Applicants: Granite Ridge Energy, LLC.

Description: Updated Market Power Analysis of Granite Ridge Energy, LLC.

Filed Date: 06/28/2011.

Accession Number: 20110628-5188.

Comment Date: 5 p.m. Eastern Time on Monday, August 29, 2011.

Docket Numbers: ER10-3286-003; ER10-3299-002.

Applicants: Millennium Power Partners, L.P., New Athens Generating Company, LLC.

Description: Updated Market Power Analysis for MILLENIUM POWER PARTNERS, L.P.

Filed Date: 06/28/2011.

Accession Number: 20110628-5181.

Comment Date: 5 p.m. Eastern Time on Monday, August 29, 2011.

Docket Numbers: ER11-3865-001.

Applicants: PacifiCorp.

Description: PacifiCorp submits tariff filing per 35.17(b): Second Amended OCOA Errata Filing to be effective 1/1/2012 under ER11-3865.

Filed Date: 06/28/2011.

Accession Number: 20110628-5102.

Comment Date: 5 p.m. Eastern Time on Tuesday, July 19, 2011.

Docket Numbers: ER11-3910-000.

Applicants: FirstEnergy Service Company.

Description: Notice of Cancellation of Service Agreements and Request for Cancellation to Be Made Effective as of June 1, 2011 of First Energy Service Company.

Filed Date: 06/28/2011.

Accession Number: 20110628-5089.

Comment Date: 5 p.m. Eastern Time on Tuesday, July 19, 2011.

Docket Numbers: ER11-3911-000.

Applicants: Pacific Gas and Electric Company.

Description: Pacific Gas and Electric Company submits tariff filing per 35.13(a)(2)(iii: Owners Coordinated Operation Agreement Amendments to be effective 1/1/2012.

Filed Date: 06/28/2011.

Accession Number: 20110628-5136.

Comment Date: 5 p.m. Eastern Time on Tuesday, July 19, 2011.

Docket Numbers: ER11-3912-000.

Applicants: Arizona Public Service Company.

Description: Arizona Public Service Company submits tariff filing per 35.13(a)(2)(iii: Engineering, Procurement, and Construction Agreement between APS and NTUA to be effective 8/29/2011.

Filed Date: 06/28/2011.

Accession Number: 20110628-5139.

Comment Date: 5 p.m. Eastern Time on Tuesday, July 19, 2011.

Docket Numbers: ER11-3913-000.

Applicants: AES Thames, LLC.

Description: AES Thames, LLC submits tariff filing per 35.12: Baseline Market-Based Rate Filing to be effective 9/1/2011.

Filed Date: 06/28/2011.

Accession Number: 20110628-5157.

Comment Date: 5 p.m. Eastern Time on Tuesday, July 19, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: June 29, 2011.
Nathaniel J. Davis, Sr.,
Deputy Secretary.

[FR Doc. 2011-16959 Filed 7-6-11; 8:45 am]

BILLING CODE 6717-01-P